DEPARTMENT OF TRANSPORTATION

Federal Aviation Administration

Notice of Industry Meeting

AGENCY: Federal Aviation Administration (FAA), DOT.

ACTION: Notice of public meeting.

SUMMARY: The FAA is hosting a virtual industry day to introduce the Small Airport Surveillance Sensor (SASS) Project to the aviation community. The FAA will present and discuss the SASS Project vision, objectives, and project timelines. The SASS Industry Day will provide a platform for interested organizations to learn about the technical details of the SASS system, and to potentially collaborate on projects with the FAA on SASS.

DATES: The virtual meeting will be held on February 4, 2021, from 10:00 a.m. to 12:00 p.m. Eastern Time.

Registrations to attend the SASS Industry Day must be completed by January 29, 2021.

Requests for accommodations to a disability must be received by January 15, 2021.

Letters of Interest from industry to work with the FAA on SASS must be received no later than March 12, 2021. Further details regarding submission of the Letters of Interest will be provided during the SASS Industry Day event.

ADDRESSES: This will be a virtual meeting. Those who wish to attend must register via the following Eventbrite link: https://www.eventbrite.com, search for “SASS Industry Day” under the Events, and click on Register. Follow-on electronic invitations for the virtual meeting will be sent to the Eventbrite-registered attendees.

FOR FURTHER INFORMATION CONTACT: Todd Lewis, SASS Project Manager, Technology Development & Prototyping Division (ANG-C51), Federal Aviation Administration, 800 Independence Ave. SW, Washington, DC 20591; telephone (202) 267-0875; email: Ronald.Lewis@faa.gov.

SUPPLEMENTARY INFORMATION:

Background

There are over 500 airports in the U.S. with air traffic control towers. Tower controllers maintain situational awareness of surface and nearby airborne traffic primarily via visual surveillance, which can be impaired during times of low visibility or bad weather. Depending on the airport size, visual surveillance can be augmented with various means. Most of the large airports (surrounded by Class B airspace) have Airport Surveillance Detection Equipment—Model X (ASDE-X) which provides situational awareness to tower controllers of surface and nearby airborne traffic. The medium size airports (surrounded by Class C airspace) generally lack ASDE-X due to cost considerations. All aircraft entering Class B or C airspace are now required to have ADS-B Out capability.

There are also approximately 350 airports surrounded by Class D airspace only, which does not require the ADS-B Out capability. Since aircraft not equipped with ADS-B capability will continue to operate at these airports surrounded by Class D airspace, there is a need for a low-cost, all-weather surveillance capability to provide situational awareness in times of bad weather and/or low visibility.

The SASS system addresses this need by employing a novel phased-array antenna, state-of-the-art digital signal processing and commercial off-the-shelf (COTS) hardware. Unlike ASDE-X, the SASS system only requires two sensor arrays and a master unit, all of which are located on the airport grounds. An SASS testbed has been implemented and operated at Hanscom Field in Massachusetts by MIT Lincoln Laboratory with FAA funding.

The SASS testbed has been used to demonstrate active (interrogated) and passive (listen only) surveillance of Mode S and air traffic control radar beacon system (ATCRBS) transponders. The positional accuracy goals of 30 feet on the airport surface and 0.2 nautical miles (NM) out to 20 NM range have been achieved. Based on this demonstrated performance, the FAA wishes to begin technology transfer of the SASS design to industry. The SASS Industry Day is the first step in this process.

Each industry member that is interested in working with the FAA to engage in the potential further development of SASS after attending the SASS Industry Day event must provide a Letter of Interest to the FAA which states the organization's capability to undertake the development of the technology, past performance/history in developing other secondary surveillance systems, proposed schedule for developing the technology and anticipated commercial use for the technology.

The U.S. Department of Transportation is committed to providing equal access to this meeting for all participants. If you need alternative formats or services because of a disability, such as sign language, interpretation, or other ancillary aids, please contact the person listed in the FOR FURTHER INFORMATION CONTACT section.

Issued in Washington, DC, on December 21, 2020.
Brandon Roberts,
Executive Director, Office of Rulemaking.

[FR Doc. 2020-28916 Filed 12-30-20; 8:45 am]

BILLING CODE 4910-13-P